SMALL BUSINESS ADMINISTRATION

[Declaration of Disaster #3512, Amdt. 5]

State of West Virginia

In accordance with notices received from the Department of Homeland Security—Federal Emergency Management Agency, dated July 15 and July 16, 2003, the above numbered declaration is hereby amended to include Doddridge, Harrison, and Ritchie Counties in the State of West Virginia as a disaster area due to damages caused by severe storms, flooding, and landslides, and to establish the incident period for this disaster as beginning on June 11, 2003 and continuing through July 15, 2003.

In addition, applications for economic injury loans from small businesses located in the following contiguous counties may be filed until the specified date at the previously designated location: Barbour, Calhoun, Gilmer, Lewis, Pleasants, Tyler, Upshur, Wirt, and Wood Counties in the State of West Virginia. All other counties contiguous to the above named primary counties have been previously declared.

All other information remains the same, i.e., the deadline for filing applications for physical damage is August 20, 2003, and for economic injury the deadline is March 22, 2004.

(Catalog of Federal Domestic Assistance Program Nos. 59002 and 59008.)

Dated: July 17, 2003.
Herbert L. Mitchell,
Associate Administrator for Disaster Assistance.

[FR Doc. 03-18725 Filed 7-22-03; 8:45 am]

BILLING CODE 8025-01-P